DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 3, 2008. If you anticipate difficulty in submitting comments within that period, contact the person listed in ADDRESSES as soon as possible.

ADDRESSES: Written comments may be sent to: Karl E. Stoeckle, U.S. Department of Energy, Business Management Specialist, LM-10.1, 1000 Independence Avenue, SW., Washington, DC 20585, or by fax at 202-586-1540 or by e-mail at karl.stoeckle@hq.doe.gov.

FOR FURTHER INFORMATION CONTACT: Requests for additional information or copies of the information collection instrument and instructions should be directed to Karl E. Stoeckle, U.S. Department of Energy, Business Management Specialist, LM-10.1, 1000 Independence Avenue, SW., Washington, DC 20585, or by fax at 202-586-1540 or by e-mail at karl.stoeckle@hq.doe.gov.

SUPPLEMENTARY INFORMATION: This information collection request contains: (1) OMB No. New; (2) Information Collection Request Title: Legacy Management Labor Relations. This information collection request was originally a part of OMB No. 1910-0600, Industrial Relations; (3) Type of Review: New; (4) Purpose: This package requests information from the Department of Energy Facilities Management Contractors for contract administration, management oversight and cost control. This information is used to ensure that Department contractors recruit and retain a workforce in accordance with the terms of their contract and in compliance with statutory and regulatory requirements as identified by contract; (5) Respondents: 35; (6) Estimated Number of Burden Hours: 193. (6) Reporting Frequency: Annual.

Statutory Authority: The statutory authority for collection of this data is the statute establishing the Department of Energy (“Department of Energy Organization Act,” Public Law 95-91, of August 4, 1977). It vests the Secretary of Energy with the executive direction and management function, authority, and responsibilities for the Department, including contract management. The provisions of 42 U.S.C. 7254 state that “the Secretary is authorized to prescribe such procedural and administrative rules as he may deem necessary or appropriate to administer and manage the functions now or hereafter vested in him; and 42 U.S.C. 7256(a) “the Secretary is authorized to enter into and perform such contracts, leases, cooperative agreements, or other similar transactions with public agencies and private organizations and persons, and to make such payments (in lump sum or installments, and by way of advance or reimbursement) as he may deem to be necessary of appropriated to carry out functions now or here after vested in the Secretary.”

Issued in Washington, DC, on August 26, 2008.
Michael W. Owen,
Director, Office of Legacy Management.

[FR Doc. E8-20383 Filed 9-2-08; 8:45 am]

BILLING CODE 6450-01-P